NATIONAL SCIENCE FOUNDATION

Advisory Committee for Social, Behavioral and Economic Sciences; Notice of Meeting

In accordance with the Federal Advisory Committee Act (Pub. L. 92- 463, as amended), the National Science Foundation (NSF) announces the following meeting:

Name and Committee Code: Advisory Committee for Social, Behavioral and Economic Sciences (#1171).

Date and Time: May 10, 2018; 9:00 a.m. to 5:00 p.m., May 11, 2018; 8:30 a.m. to 1:30 p.m.

Place: National Science Foundation, 2415 Eisenhower Avenue, Room W2210/W2220, Alexandria, VA 22314.

Type of Meeting: Open.

Contact Person: Dr. Deborah Olster, Office of the Assistant Director, Directorate for Social, Behavioral and Economic Sciences, National Science Foundation, 2415 Eisenhower Avenue, Alexandria, VA 22314; Telephone: 703- 292-8700.

Summary of Minutes: Posted on SBE advisory committee website at: https://www.nsf.gov/sbe/advisory.jsp.

Purpose of Meeting: To provide advice and recommendations to the National Science Foundation on major goals and policies pertaining to Social, Behavioral and Economic Sciences Directorate (SBE) programs and activities.

Agenda

• SBE Directorate Update

• NSF Partnerships

• National Academies of Sciences, Engineering, and Medicine (NASEM) Reproducibility and Replicability in Science Study

• National Center for Sciences and Engineering Statistics (NCSES) Updates

• Implicit Bias Workshop Report

• Strategic Planning/Grand Challenges in the SBE Sciences

• NSF Big Idea Updates

• Report on the Advisory Committee for Environmental Research and Education (AC-ERE) activities

• Meeting with NSF Leadership

• Science of Science Communications

• Future Meetings, Assignments and Concluding Remarks

Dated: April 4, 2018.
Crystal Robinson,
Committee Management Officer.

[FR Doc. 2018-07208 Filed 4-6-18; 8:45 am]

BILLING CODE 7555-01-P